NATIONAL MEDIATION BOARD

Administration of National Railroad Adjustment Board Functions and Activities

AGENCY: National Mediation Board.

ACTION: Notice.

SUMMARY: The National Mediation Board (NMB) extends an invitation to interested parties to attend an open meeting with the Board and its staff on Friday, December 19, 2003. The Board meeting will be held from 1 p.m. until 5 p.m. The meeting will be held in the Margaret A. Browning Hearing Room (Room 11000), National Labor Relations Board, 1099 14th St. NW, Washington, DC 20570. During the public meeting, the NMB invites interested persons to share their views on the issues raised in the Board's Advance Notice of Proposed Rulemaking (ANPRM) concerning the administration of National Railroad Adjustment Board (NRAB) functions and activities (68 FR 46983, Aug. 7, 2003).

DATES: The meeting will be held on December 19, 2003, from 1 p.m. to 5 p.m. Due to time and seating considerations, individuals desiring to attend the meeting, or to make a presentation before the Board, must notify the NMB staff, in writing, no later than 4 pm on Thursday, December 11, 2003.

ADDRESSES: The public meeting will be held in the Margaret A. Browning Hearing Room, (Room 11000), National Labor Relations Board, 1099 14th St. NW, Washington, DC 20570. Requests to attend the meetings must be in writing, and must be addressed to Mr. Roland Watkins, Director of Arbitration/NRAB Administrator, National Mediation Board, 1301 K Street, NW, Suite 250—East, Washington, DC 20005. Attn: NMB Docket No. 2003-01. Written requests may be sent electronically to the following e-mail address: arb@nmb.gov.

FOR FURTHER INFORMATION CONTACT: Mr. Roland Watkins, Director of Arbitration/NRAB Administrator, National Mediation Board (telephone 202-692-5057).

SUPPLEMENTARY INFORMATION: The National Mediation Board will hold an open public meeting on Friday, December 19, 2003 from 1 p.m. until 5 p.m. The purpose of the public meeting will be to solicit the views of interested persons concerning the various topics and questions posed by the NMB in its ANPRM concerning the administration of National Railroad Adjustment Board (NRAB) functions and activities (68 FR 46983, Aug. 7, 2003).

Individuals desiring to attend the meeting must notify the NMB staff, in writing, at the above listed physical or e-mail address, by the deadline noted. If an individual desires to make a presentation to the Board at the meeting, he or she is required to submit a brief outline of the presentation when making the request. In addition, a full written statement must be submitted one week prior to the meeting (the deadline for this submission is Thursday, December 11, 2003 at 4 p.m.). In lieu of making an oral presentation, individuals may submit a written statement for the record.

To attend the meeting, all potential attendees must include in their request: (1) their full name and (2) organizational affiliation (if any). Attendees are also reminded to bring photo identification card with them to the public meeting in oreder to gain admittence to the building. Due to time and potential space limitations in the meeting room, the NMB will notify individuals of their attendance and/or speaking status (i.e., preliminary time for their presentation) prior to the meeting. Time allocations for oral presentations will depend upon the number of individuals who desire to make presentations to the Board. Individuals should be prepared to summarize their written statements at the meeting.

Agenda: The NMB, in particular, solicits presentations on the following questions that were posed in the ANPRM:

Question One: If the NMB promulgates procedures for the administrative processing of NRAB cases in which the parties request that the Government compensate the neutral (“referee”), what should be the criteria or guidelines for these procedures?

It has been suggested to the NMB, that a desirable goal is to have minor disputes resolved within one year of the filing of a Notice of Intent to File a Submission. At present, it is not uncommon for cases to remain unresolved for two years.

Question Two: If a stated goal of any new procedures to be adopted by the NMB is to have the cases decided by an arbitrator within one year from the date of the filing of the Notice of Intent, what steps do you recommend comprise this procedure? Do you believe that a one year goal is reasonable? If not, why not?

Question Three: If the parties do not agree to follow the procedures adopted by the NMB, should there be any adverse consequences? Should the parties have options with respects to these procedures? What would you recommend be the steps that comprise an efficient case resolution procedure?

Question Four: What should happen to those cases that are still pending after one year in which the parties have not placed the cases before a Public Law Board, pursuant to 45 U.S.C. 153, Second? If the cases are placed before a Public Law Board, should a time limit be imposed for the resolution of those cases?

At present, the NRAB has approximately 2,000 cases pending before it. Many of these cases arise out of the filing of multiple grievances by different parties for the same underlying set of facts.

Question Five: In order to ensure the most efficient use of limited Government resources, should the NMB, in agreeing to pay for the appointment of an arbitrator (“referee”) require the consolidation of similar cases dealing with similar issues? If, in your view, case consolidation is a viable option for improving the resolution of cases, what should be the standards adopted for consolidation? What should the NMB do if the parties refuse to consolidate cases, when in the NMB's view, it would be appropriate to do otherwise?

Question Six: As the goal of this initiative is to improve the processing of disputes before the NRAB, are there any other recommendations or suggestions that you would make to the NMB with regard to its statutory responsibilities for the administration of the NRAB?

Roland Watkins,
National Railroad Adjustment Board Administrator.

[FR Doc. 03-29496 Filed 11-25-03; 8:45 am]

BILLING CODE 7550-01-P